DEPARTMENT OF THE INTERIOR

Bureau of Land Management

[LLWO35000.L14300000.FR0000.24-1A; OMB Control Number 1004-0029]

Information Collection; Color-of-Title Application

AGENCY: Bureau of Land Management.

ACTION: 30-Day Notice and Request for Comments.

SUMMARY: The Bureau of Land Management (BLM) has submitted an information collection request to the Office of Management and Budget (OMB) for a 3-year extension of OMB Control Number 1004-0029 under the Paperwork Reduction Act. The respondents are individuals, groups, and corporations who provide information to the BLM in support of applications for land under the Color-of-Title Act.

DATES: The OMB is required to respond to this information collection request within 60 days but may respond after 30 days. Therefore, written comments should be received on or before December 24, 2009.

ADDRESSES: You may submit comments directly to the Desk Officer for the Department of the Interior (OMB #1004-0029), Office of Management and Budget, Office of Information and Regulatory Affairs, fax 202-395-5806, or by electronic mail at oira_docket@omb.eop.gov. Please mail a copy of your comments to: Bureau Information Collection Clearance Officer (WO-630), Department of the Interior, 1849 C Street, N.W., Mail Stop 401 LS, Washington, DC 20240. You may also send a copy of your comments by electronic mail to jean_sonneman@blm.gov.

FOR FURTHER INFORMATION CONTACT: Alzata L. Ransom, Lands and Realty Group, at (202) 912-7341. Persons who use a telecommunication device for the deaf (TDD) may call the Federal Information Relay Service (FIRS) on 1-800-877-8339, 24 hours a day, seven days a week, to contact Ms. Ransom.

SUPPLEMENTARY INFORMATION: Title: Color-of-Title Application (43 CFR Subparts 2540 and 2541).

OMB Number: 1004-0029.

Abstract: The Bureau of Land Management proposes to extend the currently approved collections of information, which enable the agency to determine whether or not applicants are qualified to obtain tracts of public land due to peaceful, adverse possession in good faith for more than 20 years.

60-Day Notice: On May 21, 2009, the BLM published a 60-day notice (74 FR 23879) requesting comments on the proposed information collection. The comment period ended on July 20, 2009. One comment was received. The comment did not address, and was not germane to, this information collection; rather, it was a general invective about the Department of the Interior, the BLM, and Washington politicians. Therefore, we have no response to the comment.

Current Action: This proposal is being submitted to extend the expiration date of November 30, 2009.

Type of Review: 3-year extension.

Affected Public: Individuals, groups, and corporations.

Obligation to Respond: Required to obtain or retain benefits.

Annual Responses: 10.

Annual Burden Hours: 30.

A filing fee of $10 is associated with each of these information collections. The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0029 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. E9-28180 Filed 11-23-09; 8:45 am]

BILLING CODE 4310-84-P